DEPARTMENT OF THE TREASURY

Office of Foreign Assets Control

31 CFR Parts 501 and 593 and Appendix A to Chapter V

Amendments to OFAC Regulations To Remove the Former Liberian Regime of Charles Taylor Sanctions Regulations and References to Fax-on-Demand Service

AGENCY: Office of Foreign Assets Control, Treasury

ACTION: Final rule.

SUMMARY: The Department of the Treasury's Office of Foreign Assets Control (OFAC) is removing from the Code of Federal Regulations the Former Liberian Regime of Charles Taylor Sanctions Regulations as a result of the termination of the national emergency on which the regulations were based. OFAC also is amending the Reporting, Procedures and Penalties Regulations and Appendix A to chapter V by making technical changes including to remove references to OFAC's fax-on-demand service in order to reflect the discontinuation of that service.

DATES: Effective: November 4, 2016.

FOR FURTHER INFORMATION CONTACT: The Department of the Treasury's Office of Foreign Assets Control: Assistant Director for Licensing, tel.: 202-622-2480, Assistant Director for Regulatory Affairs, tel.: 202-622-4855, Assistant Director for Sanctions Compliance & Evaluation, tel.: 202-622-2490, or the Department of the Treasury's Office of the Chief Counsel (Foreign Assets Control), Office of the General Counsel, tel.: 202-622-2410.

SUPPLEMENTARY INFORMATION:

Electronic Availability

This document and additional information concerning OFAC are available from OFAC's Web site (www.treasury.gov/ofac).

Background

Removal of the Former Liberian Regime of Charles Taylor Sanctions Regulations

On July 22, 2004, the President signed Executive Order 13348, “Blocking Property of Certain Persons and Prohibiting the Importation of Certain Goods from Liberia” (E.O. 13348), in which he declared a national emergency to deal with the unusual and extraordinary threat posed to United States foreign policy by the actions and policies of former Liberian President Charles Taylor and other persons, in particular their unlawful depletion of Liberian resources and their removal from Liberia and secreting of Liberian funds and property, which undermined Liberia's transition to democracy and the orderly development of its political, administrative, and economic institutions and resources. The President further noted that the Comprehensive Peace Agreement signed on August 18, 2003, and the related ceasefire had not yet been universally implemented throughout Liberia, and that the illicit trade in round logs and timber products was linked to the proliferation of and trafficking in illegal arms, which perpetuated the Liberian conflict and fueled and exacerbated other conflicts throughout West Africa.

E.O. 13348 blocked all property and interests in property of the persons listed in the Annex to E.O. 13348 and any person determined: (1) To be or have been an immediate family member of Charles Taylor; (2) to have been a senior official of the former Liberian regime headed by Charles Taylor or otherwise to have been or be a close ally or associate of Charles Taylor or the former Liberian regime; (3) to have materially assisted, sponsored, or provided financial, material, or technological support for, or goods or services in support of, the unlawful depletion of Liberian resources, the removal of Liberian resources from that country, and the secreting of Liberian funds and property by any person whose property or interests in property are blocked pursuant to E.O. 13348; or (4) to be owned or controlled by, or acting or purporting to act for or on behalf of, directly or indirectly, any person whose property or interests in property are blocked pursuant to E.O. 13348. E.O. 13348 also prohibited the direct or indirect importation into the United States of any round log or timber product originating in Liberia.

On May 23, 2007, OFAC issued the Former Liberian Regime of Charles Taylor Sanctions Regulations, 31 CFR part 593, as a final rule to implement E.O. 13348 (72 FR 28855, May 23, 2007).

On November 12, 2015, the President issued Executive Order 13710, “Termination of Emergency With Respect to the Actions and Policies of Former Liberian President Charles Taylor” (E.O. 13710). In E.O. 13710, the President found that the situation that gave rise to the declaration of a national emergency in E.O. 13348 had been significantly altered by Liberia's significant advances to promote democracy and the orderly development of its political, administrative, and economic institutions, including presidential elections in 2005 and 2011, which were internationally recognized as freely held; the 2012 conviction of, and 50-year prison sentence for, former Liberian President Charles Taylor and the affirmation on appeal of that conviction and sentence; and the diminished ability of those connected to former Liberian President Charles Taylor to undermine Liberia's progress. As a result, he terminated the national emergency declared in E.O. 13348 and revoked that order.

Accordingly, OFAC is removing the Former Liberian Regime of Charles Taylor Sanctions Regulations from the Code of Federal Regulations. Pursuant to section 202 of the National Emergencies Act (50 U.S.C. 1622) and section 1 of E.O. 13710, termination of the national emergency declared in E.O. 13348 shall not affect any action taken or proceeding pending that was not fully concluded or determined as of 2:00 p.m. eastern standard time on November 12, 2015 (the effective date of E.O. 13710), any action or proceeding based on any act committed prior to the effective date, or any rights or duties that matured or penalties that were incurred prior to the effective date.

Technical Changes

On June 10, 2016, OFAC announced on its Web site that it was terminating its fax-on-demand service due to a lack of user demand. OFAC is making technical changes to its regulations including to reflect the discontinuation of the fax-on-demand service.

The Reporting, Procedures and Penalties Regulations, 31 CFR part 501 (RPPR), set forth standard reporting and recordkeeping requirements and license application and other procedures relevant to the economic sanctions programs administered by OFAC. OFAC is revising section 501.603 of the RPPR, which covers reports on blocked property, and section 501.801 of the RPPR, which covers licensing, in each case to remove references to OFAC's fax-on-demand service and to make certain other technical changes.

Appendix A to chapter V (Appendix A) sets forth information pertaining to OFAC's Specially Designated Nationals and Blocked Persons List. OFAC is making two revisions to Appendix A, in each case to remove references to OFAC's fax-on-demand service.

Public Participation

Because parts 501 and 593 and Appendix A to 31 CFR chapter V involve a foreign affairs function, the provisions of Executive Order 12866 and the Administrative Procedure Act (5 U.S.C. 553) requiring notice of proposed rulemaking, opportunity for public participation, and delay in effective date are inapplicable. Because no notice of proposed rulemaking is required for this rule, the Regulatory Flexibility Act (5 U.S.C. 601-612) does not apply.

Paperwork Reduction Act

Pursuant to the Paperwork Reduction Act of 1995 (44 U.S.C. 3507), the collections of information contained in the RPPR have been approved by the Office of Management and Budget under control number 1505-0164. An agency may not conduct or sponsor, and a person is not required to respond to, a collection of information unless the collection of information displays a valid control number.

List of Subjects in 31 CFR Parts 501 and 593 and Appendix A to Chapter V

Administrative practice and procedure, Banks, Banking, Blocking of assets, Credit, Foreign trade, Imports, Liberia, Penalties, Reporting and recordkeeping requirements, Sanctions, Securities.

For the reasons set forth in the preamble, and under the authority of 3 U.S.C. 301; 50 U.S.C. 1601-1651; E.O. 13348, 69 FR 44885, 3 CFR, 2004 Comp., p. 189; E.O. 13710, 80 FR 71679, OFAC amends 31 CFR chapter V as follows:

PART 501—REPORTING, PROCEDURES AND PENALTIES REGULATIONS

1. The authority citation for part 501 continues to read as follows:

Authority: 8 U.S.C. 1189; 18 U.S.C. 2332d, 2339B; 19 U.S.C. 3901-3913; 21 U.S.C. 1901-1908; 22 U.S.C. 287c; 22 U.S.C. 2370(a), 6009, 6032, 7205; 28 U.S.C. 2461 note; 31 U.S.C. 321(b); 50 U.S.C. 1701-1706; 50 U.S.C. App. 1-44.

Subpart C—Reports

2. Amend § 501.603 to revise the second sentence of paragraph (b)(2)(ii) to read as follows:

§ 501.603 Reports on blocked property.

* * * * *

(b) * * *

(2) * * *

(ii) * * * Copies of Form TDF 90-22.50 may be obtained directly from the Office of Foreign Assets Control by downloading the form from the OFAC Reporting and License Application Forms page on OFAC's Web site (https://www.treasury.gov/resource-center/sanctions/Pages/forms-index.aspx). * * *

* * * * *

Subpart E—Procedures

3. Amend § 501.801 to revise the penultimate sentence of paragraph (b)(2) to read as follows:

§ 501.801 Licensing.

* * * * *

(b) * * *

(2) * * * The form, which requires information regarding the date of the blocking, the financial institutions involved in the transfer, and the beneficiary and amount of the transfer, may be obtained from the OFAC Reporting and License Application Forms page on OFAC's Web site (https://www.treasury.gov/resource-center/sanctions/Pages/forms-index.aspx) or the Office of Foreign Assets Control, Licensing Division, U.S. Department of the Treasury, 1500 Pennsylvania Avenue NW., Freedman's Bank Building, Washington, DC 20220. * * *

* * * * *

PART 593—[REMOVED]

4. Remove part 593.

Appendix A to Chapter V—[AMENDED]

5. The authority citation for appendix A to chapter V continues to read as follows:

Authority: 3 U.S.C. 301; 8 U.S.C. 1182, 1189; 18 U.S.C. 2339 B; 21 U.S.C. 1901-1908; 22 U.S.C. 287 c; 31 U.S.C. 321(b); 50 U.S.C. App. 1-44; Public Law 110-286, 122 Stat. 2632 (50 U.S.C. 1701 note); Public Law 111-195, 124 Stat. 1312 (22 U.S.C. 8501-8551); Public Law 112-81, 125 Stat. 1298 (22 U.S.C. 8513a); Public Law 112-158, 126 Stat. 1214 (22 U.S.C. 8701-8795); Public Law 112-208, 126 Stat. 1502; Public Law 113-278, 128 Stat. 3011 (50 U.S.C. 1701 note).

6. Amend appendix A to chapter V as follows:

a. Remove the third introductory paragraph, which states: “Finally, the public may obtain information on blocking, designation, identification, and delisting actions through OFAC's fax-on-demand service, at 202/622-0077.”

b. Remove the fifth sentence of note 5, which states: “Information also is available by fax through OFAC's fax-on-demand service, at 202/622-0077.”

John E. Smith,
Acting Director, Office of Foreign Assets Control.

[FR Doc. 2016-26717 Filed 11-3-16; 8:45 am]

BILLING CODE 4810-AL-P